DEPARTMENT OF COMMERCE

Bureau of the Census

Census Advisory Committees

AGENCY: Bureau of the Census, Department of Commerce.

ACTION: Notice of public meeting; correction.

SUMMARY: The Bureau of the Census (Census Bureau) is issuing this notice to correct the dates of the meetings for the Census Advisory Committees (CACs) on the African American Population, the American Indian and Alaska Native Populations, the Asian Population, the Hispanic Population, and the Native Hawaiian and Other Pacific Islander Populations. The Census Bureau originally published in the Federal Register on Monday, April 3, 2006 (63 FR 16548), a Notice of Public Meeting for the above named committees. This notice corrects the DATES section of the earlier notice. The DATES section should now read that the meetings will be held on April 27-28, 2006.

DATES: April 27-28, 2006. On April 27, the meeting will begin at approximately 8:45 a.m. and end at approximately 4 p.m. On April 28, the meeting will begin at approximately 8:30 a.m. and end at approximately 3 p.m.

ADDRESSES: The meeting will be held at the Sheraton Crystal City Hotel, 1800 Jefferson Davis Highway, Arlington, Virginia 22202.

FOR FURTHER INFORMATION CONTACT: Ms. Jeri Green, Committee Liaison Officer, Department of Commerce, U.S. Census Bureau, Room 3627, Federal Office Building 3, Washington, DC 20233, telephone (301) 763-2070, TTY (301) 457-2540.

Dated: April 5, 2006.
Charles Louis Kincannon,
Director, Bureau of the Census.

[FR Doc. E6-5265 Filed 4-10-06; 8:45 am]

BILLING CODE 3510-07-P